DEPARTMENT OF ENERGY

Commission on Fire Safety and Preparedness

AGENCY: Department of Energy (DOE).

ACTION: Notice of open meeting.

SUMMARY: This notice announces a public meeting of the DOE Commission on Fire Safety and Preparedness. The Federal Advisory Committee Act (Pub. L. 92-463, 86 Stat. 770), requires that public notice of the meetings be announced in the Federal Register.

DATES: Monday, April 23, 2001, 8:00 am to 5:00 pm.

ADDRESSES: Sheraton Augusta Hotel, 2651 Perimeter Parkway, Augusta, Georgia, 30909. (Tel.: 706-855-8100).

FOR FURTHER INFORMATION CONTACT: Frank Russo, U.S. Department of Energy, 1000 Independence Avenue, SW., Washington, DC 20585, telephone number 301-903-1845, email: frank.russo@eh.doe.gov.

SUPPLEMENTARY INFORMATION: Purpose of the Meeting: The Fire Safety and Preparedness Commission is tasked with providing advice to the Secretary of Energy on the state of DOE fire protection programs and to provide guidance, advice and information on the readiness of the complex from the threat of wildland and facility fires.

The purpose of this second public meeting of the Commission is to provide members with an opportunity to obtain additional information from representatives of the Lead Program Secretarial Offices on the breadth of DOE missions, their associated fire hazards, existing fire prevention and protection measures, and the capabilities of site emergency services organizations. Additionally, the Commission will be provided a perspective on DOE fire safety from a representative of the Defense Nuclear Facilities Safety Board (DNFSB). The staff of the DOE Office of Environment, Safety and Health will provide a briefing on pending (fire protection) policy initiatives and oversight activities. Recent activities by the four Commission subcommittees will be reviewed.

Tentative Agenda

The Environmental Management Fire Protection Program

The Office of Science Fire Protection Program

Fire Protection for Defense Programs

The DNFSB Perspective on DOE Fire Safety

Pending Fire Safety Policy Initiatives

Wildland Fire Safety Implementation Plans

Commission Subcommittee Briefings

Question and Answer Period

Commission Deliberations

Public Comment Period

Public Participation: The meeting is open to the public on a first-come, first-served basis because of limited seating. Written statements may be filed with the Commission before or after the meeting. Members of the public who wish to make oral statements pertaining to agenda items should contact Frank Russo at the number above. Requests to make oral statements must be made and received five days prior to the meeting; reasonable provision will be made to include the statement in the agenda. The Chair of the Commission is empowered to conduct the meeting in a fashion that will facilitate the orderly conduct of business.

Minutes: The minutes of this meeting will be available for public review and copying at the Freedom of Information Reading Room, 1E-190, Forrestal Building, 1000 Independence Avenue, SW., Washington, DC, between 9 am and 4 pm, Monday through Friday, except holidays.

Issued in Washington, DC on March 28, 2001.
Rachel M. Samuel,
Deputy Advisory Committee Management Officer.

[FR Doc. 01-8105 Filed 4-2-01; 8:45 am]

BILLING CODE 6450-01-P